DEPARTMENT OF THE INTERIOR

National Park Service

[NPS-WASO-NRNHL-DTS#-34243; PPWOCRADI0, PCU00RP14.R50000]

National Register of Historic Places; Notification of Pending Nominations and Related Actions

AGENCY: National Park Service, Interior.

ACTION: Notice.

SUMMARY: The National Park Service is soliciting electronic comments on the significance of properties nominated before July 16, 2022, for listing or related actions in the National Register of Historic Places.

DATES: Comments should be submitted electronically by August 9, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 16, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

HAWAII

Honolulu County

House at 3035 Kiele Avenue, 3035 Kiele Ave., Honolulu, SG100008038

IOWA

Bremer County

Wartburg College Historic District, 100 Wartburg Blvd., Waverly, SG100008031

Muscatine County

Chicago, Rock Island and Pacific Railroad Passenger Depot, 405 North Elm St., West Liberty, SG100008032

MASSACHUSETTS

Barnstable County

South Chatham Village Historic District, Western portion of Main St., and northern portions of Deep Water Ln., Forest Beach Rd., and Pleasant St., Chatham, SG100008033

Hampden County

Essex Street Historic District, Roughly bounded by Chestnut, Essex, and Pine Sts., Holyoke, SG100008035

NEW YORK

Chemung County

Goff, Way and Brand Leaf Tobacco Warehouse, 310 Academy Pl., Elmira, SG100008028

Stowell House, 319 William St., Elmira, SG100008029

Erie County

Illinois Alcohol Company Building, 1432 Niagara St., Buffalo, SG100008027

OHIO

Columbiana County

New Garden Monthly Meetinghouse, 32114 Winona Rd., Hanoverton, SG100008030

Huron County

Norwalk Theatre, 57 East Main St., Norwalk, SG100008039

Lucas County

Craft Master Building, 328 North Westwood Ave., Toledo, SG100008037

TEXAS

Wichita County

American Trust Building-Holiday Inn, 726 Scott Ave., Wichita Falls, SG100008026

In the interest of preservation, a SHORTENED comment period has been requested for the following resource:

MARYLAND

Baltimore Independent City

Baltimore Federal Savings & Loan Association, 19-25 East Fayette St., Baltimore, SG100008034, Comment period: 3 days.

Authority: Section 60.13 of 36 CFR part 60.

Dated: July 16, 2022.
Sherry A. Frear,
Chief, National Register of Historic Places/National Historic Landmarks Program.

[FR Doc. 2022-15864 Filed 7-22-22; 8:45 am]

BILLING CODE 4312-52-P